COMMISSION ON CIVIL RIGHTS

Notice of Public Meeting of the Utah Advisory Committee; Correction

AGENCY: Commission on Civil Rights.

ACTION: Notice; correction to meeting date and time.

SUMMARY: The Commission on Civil Rights published a notice in the Federal Register on Wednesday, July 12, 2023, concerning a meeting of the Utah Advisory Committee. The meeting date and time has since changed.

FOR FURTHER INFORMATION CONTACT: Liliana Schiller, (312) 353-8311, lschiller@usccr.gov.

CORRECTION: In the Federal Register on Wednesday, July 12, 2023, in FR Document Number 2023-14783, on page 44259, second column, correct the meeting date and time to: Friday, August 25, 2023, from 3:00 p.m.-4:30 p.m. MT.

Dated: July 28, 2023.
David Mussatt,
Supervisory Chief, Regional Programs Unit.

[FR Doc. 2023-16517 Filed 8-2-23; 8:45 am]

BILLING CODE P